DEPARTMENT OF HEALTH AND HUMAN SERVICES

Centers for Disease Control and Prevention

[30Day-15-14HW]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Evaluating the Effectiveness of Interventions for Airplane Cargo Baggage Handling—New—National Institute for Occupational Safety and Health (NIOSH), Centers for Disease Control and Prevention (CDC).

Background and Brief Description

The mission of the National Institute for Occupational Safety and Health (NIOSH) is to promote worker safety and health through research and prevention. Under Public Law 91-596, sections 20 and 22 (Section 20-22, Occupational Safety and Health Act of 1970), NIOSH has the responsibility to conduct research to advance the health and safety of workers. In this capacity, NIOSH is seeking a three-year approval from the Office of Management and Budget (OMB) to conduct a study to assess the effectiveness and cost-benefit of engineering interventions for reducing musculoskeletal disorders (MSDs) among baggage handlers working at airports.

In recent years (2009-2012), the overall annual incidence rate of work-related injuries resulting in days away from work, job transfer, or restricted work in the airport passenger transportation industry was approximately 7%. This is one of the highest rates in all job categories tracked by the Bureau of Labor Statistics (BLS). A very large proportion of the injury cases in the airport passenger transportation industry are musculoskeletal disorders (MSDs), especially low back disorders, which were found primarily in baggage handlers working in the ramp or tarmac area, where airplanes are parked for services.

Two interventions to be evaluated are the power stow (PS) and the vacuum lift (VL) systems. The PS is a semi-automatic conveyor to assist the user in transferring bags. The VL is a lifting assist hoist to assist in manual lifting. The PS will be used in the cargo compartments in the airplane, while the VL will be used for tasks required for transferring bags from a baggage cart to the conveyor connected to the cargo compartments. The systems will be evaluated through a prospective study design with a control group.

An estimate of 960 ramp workers are planned to be recruited into the study. Stratified by their crew units (5 workers per crew), 60 of 960 ramp workers will be randomly chosen to use the interventions (30 in each intervention group). The remainder of 900 will serve as the control group. MSD risk and incidence data will be collected by a self-reported questionnaire at baseline, one and two years after implementation of the two interventions. Additional MSD symptoms and intervention compliance information will be requested monthly by a short mail-in questionnaire. The effectiveness of the interventions will be assessed by a reduction in MSD risks or incidence rates at the end of the two follow-up periods. The primary health outcomes from the questionnaires include self-reported musculoskeletal symptoms in multiple body regions (neck, shoulders, low back and knees), sickness, absence, and medical attention due to the symptoms. The annual questionnaire will be used to collect additional information (demographics, alcohol consumption, health problems, etc.), job demands (work method, time spent on each job position, etc.), and psychosocial job characteristics (perceived job stress, coworker support, etc.). The annual estimated time for completing the yearly questionnaire is 30 minutes per person.

Between the baseline and the second follow-up, a monthly mail-in short survey will be self-administered to collect additional information on participants' work methods/postures and health outcomes in the preceding month. The effectiveness of the interventions will be evaluated by several health outcome measures including self-reported musculoskeletal pain symptoms in multiple body regions (neck, shoulders, low back and knees), sickness absence, and worker compensation costs in a two-year study period. The estimated time for completing the monthly questionnaire is 10 minutes per person.

A small portion of the study population (30 from the control, 30 from the PS and VL intervention groups, respectively) will be sampled for their work using a video task analysis method. Hand forces required for the recorded tasks will be measured by NIOSH to estimate operational hand forces for the tasks. WMSD risk data for each task will be determined by estimated working posture in the video recording and measured hand force data using a biomechanical model. Baggage weight information in the airline company baggage record system will be used to estimate the number of baggage handling operations per flight/day to estimate a cumulative risk. Through the prospective study design, a potential exposure-response relationship between the WMSD risk factors and WMSD incidence, adjusted for personal and psychosocial factors, will be evaluated for airport baggage handlers. There is no burden to respondents during video recording and hand force sampling because the video and force data collections will be conducted by NIOSH investigators without respondents' involvement.

An informed consent form will be collected one time during the initial enrollment period. Annualized, over the course of the three year study, this will be 320 participants completing the informed consent. An early exit phone interview will be conducted if the respondent decides to leave the study before the end date. A 20% early exit study rate during the entire study period of three years is estimated. This amounts to 64 participants completing the early exit interview annually. The number of respondents with missing data (approximately 5 questionnaire items across the annual and monthly questionnaires per respondent) is estimated to be 5% annually. Based on the above information and the frequencies of the annual and monthly surveys, the total estimated annualized burden is 2,436 hours.

Once the study is completed, results will be made available through the NIOSH Internet site, trade journals and peer-reviewed publications. There is no cost to respondents other than their time.

Estimated Annualized Burden Hours
Type of respondents | Form name | Number of respondents | Number of responses per respondent | Average burden per response (in hours)
Airline baggage handlers in the ramp area | Self-reported annual questionnaire survey for MSD symptoms and risk factors | 960 | 1 | 30/60
| Self-reported monthly questionnaire for MSD symptoms and work method | 960 | 12 | 10/60
| Informed Consent Form | 320 | 1 | 5/60
| Follow-up on missing questionnaire data | 48 | 5 | 1/60
| Early Exit Interview | 64 | 1 | 5/60

Leroy A. Richardson,
Chief, Information Collection Review Office, Office of Scientific Integrity, Office of the Associate Director for Science, Office of the Director, Centers for Disease Control and Prevention.

[FR Doc. 2014-26353 Filed 11-5-14; 8:45 am]

BILLING CODE 4163-18-P